DEPARTMENT OF COMMERCE

Foreign-Trade Zones Board

[S-40-2025]

Approval of Subzone Status; Rincon Power, LLC; Carpinteria, California

On February 20, 2025, the Executive Secretary of the Foreign-Trade Zones (FTZ) Board docketed an application submitted by the Board of Harbor Commissioners of the Oxnard Harbor District, grantee of FTZ 205, requesting subzone status subject to the existing activation limit of FTZ 205, on behalf of Rincon Power, LLC, in Carpinteria, California.

The application was processed in accordance with the FTZ Act and Regulations, including notice in the Federal Register inviting public comment (90 FR 10713, February 26, 2025). The FTZ staff examiner reviewed the application and determined that it meets the criteria for approval. Pursuant to the authority delegated to the FTZ Board Executive Secretary (15 CFR 400.36(f)), the application to establish Subzone 205C was approved on April 16, 2025, subject to the FTZ Act and the Board's regulations, including section 400.13, and further subject to FTZ 205's 2,000-acre activation limit.

Dated: April 16, 2025.
Elizabeth Whiteman,
Executive Secretary.

[FR Doc. 2025-06833 Filed 4-18-25; 8:45 am]

BILLING CODE 3510-DS-P